ENVIRONMENTAL PROTECTION AGENCY

40 CFR Part 282

[EPA-R01-UST-2022-0204; FRL 9581-01-R1]

Vermont: Final Approval of State Underground Storage Tank Program Revisions, Codification, and Incorporation by Reference

AGENCY: Environmental Protection Agency (EPA).

ACTION: Proposed rule.

SUMMARY: Pursuant to the Resource Conservation and Recovery Act (RCRA or Act), the Environmental Protection Agency (EPA) is proposing to approve revisions to the State of Vermont's Underground Storage Tank (UST) program submitted by the Vermont Department of Environmental Conservation (VT DEC). This action is based on the EPA's determination that these revisions satisfy all requirements needed for program approval. This action also proposes to codify EPA's approval of Vermont's State program and incorporate by reference those provisions of the State regulations that we have determined meet the requirements for approval. The provisions will be subject to EPA's inspection and enforcement authorities under sections 9005 and 9006 of RCRA Subtitle I and other applicable statutory and regulatory provisions.

DATES: Send written comments by August 15, 2022.

ADDRESSES: Submit any comments, identified by EPA-R01-UST-2022-0204, by one of the following methods:

1. Federal eRulemaking Portal: https://www.regulations.gov. Follow the on-line instructions for submitting comments.

2. Email: coyle.joan@epa.gov.

Instructions: Direct your comments to Docket ID No. EPA-R01-UST-2022-0204. EPA's policy is that all comments received will be included in the public docket without change and may be available online at https://www.regulations.gov including any personal information provided, unless the comment includes information claimed to be Confidential Business Information (CBI) or other information whose disclosure is restricted by statute. Do not submit information that you consider to be CBI or otherwise protected through https://www.regulations.gov, or email. The Federal https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment and with any disk or CD-ROM you submit. If EPA cannot read your comment due to technical difficulties, and cannot contact you for clarification, EPA may not be able to consider your comment. Electronic files should avoid the use of special characters, any form of encryption, and be free of any defects or viruses. You can view and copy the documents that form the basis for this codification and associated publicly available materials either through www.regulations.gov or at the EPA Region 1 Office, 5 Post Office Square, 1st floor, Boston, MA 02109-3912. The facility is open from 8:30 a.m. to 4:00 p.m., Monday through Friday, excluding Federal holidays and facility closures due to COVID-19. We recommend that you call Joan Coyle, RCRA Waste Management, UST, and Pesticides Section, at (617) 918-1303, before visiting the Region 1 office. Interested persons wanting to examine these documents should make an appointment with the office at least two weeks in advance.

FOR FURTHER INFORMATION CONTACT: Joan Coyle, RCRA Waste Management, UST, and Pesticides Section, U.S. Environmental Protection Agency, Region 1, 5 Post Office Square, Boston, MA 02109-3912; (617) 918-1303; coyle.joan@epa.gov.

SUPPLEMENTARY INFORMATION: For additional information, see the direct final rule published in the “Rules and Regulations” section of this issue of the Federal Register.

Authority: This rulemaking is issued under the authority of Sections 2002(a), 9004, and 7004(b) of the Solid Waste Disposal Act, as amended, 42 U.S.C. 6912, 6991c, 6991d, and 6991e.

Dated: June 30, 2022.
David W. Cash,
Regional Administrator, EPA Region 1.

[FR Doc. 2022-15066 Filed 7-13-22; 8:45 am]

BILLING CODE 6560-50-P